DEPARTMENT OF ENERGY

Federal Energy Regulatory Commission

[FERC Docket No. CP09-161-000]

Bison Pipeline, L.L.C.; Notice of Availability of the Draft Environmental Impact Statement and Notice of Public Comment Meetings for the Bison Pipeline Project

August 21, 2009.

The staff of the Federal Energy Regulatory Commission (FERC or Commission) has prepared a draft Environmental Impact Statement (EIS) on the natural gas pipeline facilities proposed by Bison Pipeline, L.L.C. (Bison) in the above-referenced docket. The Bison Pipeline Project facilities would be located in Wyoming, Montana, and North Dakota and have been designed to transport approximately 477 million cubic feet per day (MMcf/day) of natural gas.

Bison proposes to construct, operate, and maintain 302.5 miles of new 30-inch-diameter interstate natural gas transmission pipeline, one compressor station, two meter stations, 20 mainline valves, and three pig launcher/pig receiver facilities. The proposed Bison Pipeline Project would extend northeast from a point near Dead Horse, Wyoming, through southeastern Montana and southwestern North Dakota. It would connect with the Northern Border pipeline system near Northern Border's Compressor Station #6 in Morton County, North Dakota.

As the Federal agency responsible for evaluating applications filed for authorization to construct and operate interstate natural gas pipeline facilities, FERC is the lead Federal agency for the preparation of this EIS. The EIS has been prepared in compliance with the requirements of NEPA, the Council on Environmental Quality (CEQ) regulations for implementing NEPA (40 Code of Federal Regulations [CFR] 1500-1508), and FERC regulations implementing NEPA (18 CFR 380).

The U.S. Department of the Interior, Bureau of Land Management (BLM) is a cooperating agency in preparation of the EIS. A cooperating agency has jurisdiction by law or special expertise with respect to environmental impacts associated with a proposal and is involved in the NEPA analysis. BLM is a cooperating agency because the Project would cross federal lands and resources for which the BLM has jurisdiction and special expertise with respect to environmental issues and impacts. BLM will use the EIS to meet its NEPA responsibilities in considering Bison's application for a Right-of-Way Grant and Temporary Use Permit for the portion of the Project on Federal land.

This draft EIS has been prepared for public review and comment. The principal purposes in preparing this EIS were to:

• Identify and assess potential impacts on the natural and human environment that would result from implementation of the proposed Project;

• Facilitate public involvement in identifying any potentially significant environmental impacts;

• Identify and assess reasonable alternatives to the proposed Project that would avoid or minimize adverse effects on the environment; and

• Identify and recommend specific mitigation measures to minimize environmental impacts.

Based on the analysis included in the EIS, the FERC staff concludes that construction and operation of the Bison Pipeline Project would result in some adverse environmental impacts. However, we believe that environmental impacts would be reduced to less than significant levels if the proposed Project is constructed and operated in accordance with applicable laws and regulations, Bison's proposed mitigation, and additional measures we recommend in this draft EIS.

Comment Procedures and Public Meetings

You can make a difference by providing us with your specific comments or concerns about the Bison Pipeline Project. Your comments should focus on the potential environmental effects, reasonable alternatives, and measures to avoid or lessen environmental impacts. The more specific your comments, the more useful they will be. To ensure consideration of your comments on the proposal in the final EIS, it is important that the Commission receive your comments before October 12, 2009.

For your convenience, there are four methods in which you can use to submit your comments to the Commission. In all instances please reference the project docket number CP09-161-000 with your submission. The Commission encourages electronic filing of comments and has dedicated eFiling expert staff available to assist you at (202) 502-8258. or efiling@ferc.gov. Please carefully follow these instructions so that your comments are properly recorded:

(1) You may file your comments electronically by using the Quick Comment feature, which is located on the Commission's Internet Web site at http://www.ferc.gov under the link Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign-up” or “eRegister.” You will be asked to select the type of filing you are making. A comment on a particular project is considered a “Comment on a Filing;”

(3) You may file your comments via mail to the Commission by sending an original and two copies of your letter to: Kimberly D. Bose, Secretary, Federal Energy Regulatory Commission, 888 First St., NE., Room 1A, Washington, DC 20426; label one copy of your comments for the attention of the Gas Branch 3, PJ-11.3 and reference Docket No. CP09-161-000 on the original and both copies; and

(4) In lieu of sending written or electronic comments, the FERC invites you to attend one of the public comment meetings the staff will conduct in the project area to receive comments on the draft EIS. All meetings will run from 6 p.m. to 8 p.m., local time, and are scheduled as follows:

Date | Location
September 21, 2009 | Sacred Heart Parish Hall, Sacred Heart Church, 208 Ash Avenue East, Glen Ullin, ND 58631.
September 22, 2009 | Bowman County Fairgrounds, Four Seasons, 12 HWY 12 E, Bowman, ND 58623.
September 23, 2009 | Powder River County District High School, 500 N Trautman, Broadus, MT 59317.
September 24, 2009 | American Legion, 200 Rockpile Blvd, Gillette, WY 82716.

Interested groups and individuals are encouraged to attend and present oral comments on the draft EIS. Transcripts of the meetings will be prepared.

After the comments are reviewed, any significant new issues are investigated, and modifications are made to the draft EIS, a final EIS will be published and distributed. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ Only intervenors have the right to seek rehearing of the Commission's decision. You do not need intervenor status to have your comments considered.

¹ Interventions may also be filed electronically via the Internet in lieu of paper. See the previous discussion on filing comments electronically.

The draft EIS has been placed in the public files of the FERC and BLM and is available for public inspection at:

Federal Energy Regulatory Commission

Public Reference Room, 888 First Street, NE., Room 2A, Washington, DC 20426, (202) 502-8371

U.S. Bureau of Land Management

Wyoming State Office, 5353 Yellowstone Road, Cheyenne, WY 82003

Buffalo Field Office, 1425 Fort Street, Buffalo, WY 82834

Montana State Office, 5001 Southgate Drive, Billings, MT 59101

Miles City Field Office, 111 Garryowen Road, Miles City MT 59301

North Dakota Field Office, 99 23rd Avenue West, Suite A, Dickinson, ND 58601

A limited number of hard copies and CD-ROMs of the draft EIS are available from the FERC's Public Reference Room identified above. This draft EIS is also available for public viewing on the FERC's Internet Web site at http://www.ferc.gov. In addition, copies of the draft EIS have been mailed to Federal, State, and local government agencies; elected officials; Native American tribes; local libraries and newspapers; intervenors in the FERC's proceeding; individuals who provided scoping comments; affected landowners and individuals who requested the draft EIS; and new landowners identified as being crossed by route alternatives either recommended by FERC staff or still under consideration.

Additional information about the project is available from the Commission's Office of External Affairs, at 1-866-208-FERC (3372) or on the FERC Internet Web site (http://www.ferc.gov). Using the “eLibrary” link, select “General Search” from the eLibrary menu, enter the selected date range and “Docket Number,” excluding the last three digits in the Docket Number field (i.e., CP09-161), and follow the instructions. You may also search using the phrase “Bison Pipeline Project” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. To register for this service, go to http://www.ferc.gov/esubscribenow.htm.

Kimberly D. Bose,
Secretary.

[FR Doc. E9-20852 Filed 8-28-09; 8:45 am]

BILLING CODE 6717-01-P